DEPARTMENT OF HEALTH AND HUMAN SERVICES

Centers for Medicare and Medicaid Services

[Document Identifier: CMS-10064]

Emergency Clearance: Public Information Collection Requirements Submitted to the Office of Management and Budget (OMB)

AGENCY: Centers for Medicare and Medicaid Services, HHS.

In compliance with the requirement of section 3506(c)(2)(A) of the Paperwork Reduction Act of 1995, the Centers for Medicare and Medicaid Services (CMS) (formerly known as the Health Care Financing Administration (HCFA)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320. This is necessary to ensure compliance with the BBA. We cannot reasonably comply with the normal clearance procedures because * * *

• The integration of the swing bed hospitals into the SNF PPS is mandated under the BBA. The FY 2002 final rule implementation date is the last possible date to introduce this program within the legislated time frames. Any delay past July 1, 2002 will put us out of compliance with the statutory requirements.

• Rural swing bed hospitals have already incurred costs to implement the SNF PPS. Postponing the implementation at this point would cause harm to the swing bed hospitals which have hired staff and purchased equipment in the expectation of higher reimbursement rates under the SNF PPS.

• The SB-MDS has already been reviewed by OMB as part of the regulatory review of the July 31, 2001 Update Rule. At that time, OMB concurred with the decision to replace the 6-page MDS with the customized 2-page SB-MDS. All the items included on the SB-MDS were included in Appendix B of that rule, and were reviewed and approved by OMB at that time. There was general consensus among CMS, the department and OMB that the use of the SB-MDS significantly reduces the burden of swing bed providers in complying with the BBA requirements.

CMS is requesting OMB review and approval of this collection by June 17, 2002, with a 180-day approval period. Written comments and recommendations will be accepted from the public if received by the individuals designated below by June 13, 2002. During this 180-day period, we will publish a separate Federal Register notice announcing the initiation of an extensive 60-day agency review and public comment period on these requirements. We will submit the requirements for OMB review and an extension of this emergency approval.

Type of Information Collection Request: New collection; Title of Information Collection: Minimum Data Set (MDS) for Swing Bed Hospitals and Supporting Regulations in 42 CFR, Sections 413.337 and 483.20; Form No.: CMS-10064 (OMB# 0938-NEW); Use: We are requesting approval of resident assessment information that swing bed hospitals are required to submit as described at 42 CFR 483.20 in the manner necessary to administer the payment rate methodology described in 42 CFR 413.337; Frequency: Other: Days 5, 14, 30, 60 & 90 of stay; Affected Public: Not-for-Profit Institutions, and State, Local or Tribal Government; Number of Respondents: 1,250; Total Annual Responses: 156,480; Total Annual Hours: 132,360.

We have submitted a copy of this notice to OMB for its review of these information collections. A notice will be published in the Federal Register when approval is obtained.

To obtain copies of the supporting statement and any related forms for the proposed paperwork collections referenced above, access CMS's Web Site address at http://www.hcfa.gov/regs/prdact95.htm, or E-mail your request, including your address, phone number, OMB number, and CMS document identifier, to Paperwork@hcfa.gov, or call the Reports Clearance Office on (410) 786-1326.

Interested persons are invited to send comments regarding the burden or any other aspect of these collections of information requirements. However, as noted above, comments on these information collection and recordkeeping requirements must be mailed and/or faxed to the designees referenced below, by June 13, 2002:

Centers for Medicare and Medicaid Services, Office of Information Services, Security and Standards Group, Division of CMS Enterprise Standards, Room N2-14-26, 7500 Security Boulevard, Baltimore, MD 21244-1850. Fax Number: (410) 786-0262, Attn: Dawn Willinghan, CMS-10064

and,

Office of Information and Regulatory Affairs, Office of Management and Budget, Room 10235, New Executive Office Building, Washington, DC 20503, Fax Number: (202) 395-6974 or (202) 395-5167, Attn: Allison Eydt, CMS Desk Officer.

Dated: May 16, 2002.
Julie Brown,
Acting, Paperwork Reduction Act Team Leader, CMS Reports Clearance Officer, CMS, Office of Information Services, Security and Standards Group, Division of CMS Enterprise Standards.

[FR Doc. 02-13183 Filed 5-24-02; 8:45 am]

BILLING CODE 4120-03-P